FEDERAL COMMUNICATIONS COMMISSION

Notice of Public Information Collection(s) Being Reviewed by the Federal Communications Commission for Extension Under Delegated Authority

December 19, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before March 1, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0489

Title: Section 73.37, Applications for Broadcast Facilities, Showing Required

Form Number: N/A

Type of Review: Extension of currently approved collection

Respondents: Business or other for-profit entities

Number of Respondents: 365

Estimated Hours per Response: 1

Frequency of Response: On occasion reporting requirement

Total Annual Burden: 365 hours

Total Annual Cost: $798,750

Needs and Uses: 47 CFR 73.37(d) requires an applicant for a new AM broadcast station, or for a major change in an authorized AM broadcast station, to make a satisfactory showing that objectionable interference will not result to an authorized AM station as a condition for its acceptance if new or modified nighttime operation by a Class B station is proposed. 47 CFR 73.37(f) requires applicants seeking facilities modification that would result in spacings that fail to meet any of the separation requirements to include a showing that an adjustment has been made to the radiated signal which effectively results in a site-to-site radiation that is equivalent to the radiation of a station with standard Model I facilities. FCC staff use the data to ensure that objectionable interference will not be caused to other authorized AM stations.

OMB Control Number: 3060-0320

Title: Section 73.1350, Transmission System Operation

Form Number: N/A

Type of Review: Extension of currently approved collection

Respondents: Businesses or other for-profit entities; Not-for-profit institutions

Number of Respondents: 411

Estimated Hours per Response: 0.5 hours

Frequency of Response: On occasion reporting requirements

Total Annual Costs: $0.00

Total Annual Burden: 206 hours

Needs and Uses: 47 CFR 73.1350(g) requires licensees to submit a notification to the FCC in Washington, DC whenever a transmission system control point is established at a location other than at the main studio or transmitter within 3 days of the initial use of that point. This notification is not required if responsible station personnel can be contacted at the transmitter or studio site during hours of operation. FCC staff use the data to maintain complete operating information regarding licensees to be used in the event that FCC field staff needs to contact the station about interference.

OMB Control Number: 3060-0182

Title: Section 73.1620, Program Tests

Form Number: N/A

Type of Review: Extension of currently approved collection

Respondents: Business or other for-profit entities; Not-for-profit institutions

Number of Respondents: 1,501

Estimated Hours per Response: 1—5 hours

Frequency of Response: On occasion reporting requirement; Third party disclosure

Total Annual Burden: 1,505 hours

Total Annual Costs: $0.00

Needs and Uses: 47 CFR 73.1620(a)(1) requires permittees of a nondirectional AM or FM station, or a nondirectional or directional TV station to notify the FCC upon beginning of program tests. An application for license must be filed within 10 days of this notification. 47 CFR 73.1620(a)(2) requires a permittee of an AM or FM station with a directional antenna to file a request for program test authority 10 days prior to date on which it desires to begin program tests. This is filed in conjunction with an application for license. Section 73.1620(f) requires licensees of UHF TV stations, assigned to the same allocated channel which a 1000 watt UHF translator station is authorized to use, to notify the licensee of the translator station at least 10 days prior to commencing or resuming operation and certify to the FCC that such advance notice has been given. 47 CFR 73.1620(g) requires permittees to report any deviations from their promises, if any, in their application for license to cover their construction permit (FCC Form 302) and on the first anniversary of their commencement of program tests. The notification in 47 CFR 73.1620(a) alerts the Commission that construction of a station has been completed and that the station is broadcasting program material. The notification in 47 CFR 73.1620(f) alerts the UHF translator station that the potential of interference exists. The report in 47 CFR 73.1620(g) stating deviations are necessary to eliminate possible abuses of the FCC's processes and to ensure that comparative promises relating to service to the public are not inflated.

OMB Control Number: 3060-0346

Title: Section 78.27, License Conditions

Form Number: N/A

Type of Review: Extension of a currently approved collection

Respondents: Individuals or households; Business and other for-profit entities; and Not-for-profit institutions

Number of Respondents: 50

Estimated Time per Response: 10 mins. (0.167 hrs.)

Frequency of Response: One time and on occasion reporting requirements

Total Annual Burden: 8 hours

Total Annual Costs: None

Needs and Uses: 47 CFR 78.27 requires licensees of Cable Television Relay Service (CARS) stations to notify the FCC in writing when the station commences operation. A CARS licensee, which needs additional time to complete construction of the station, must request an extension of time from the FCC 30 days prior to the expiration of the one-year construction period. The Commission uses these filings to provide accurate CARS channel usage for frequency coordination, to prevent warehousing of spectrum, and to prevent frequency interference.

Federal Communications Commission.
Marlene H. Dortch,
Secretary.

[FR Doc. 03-32115 Filed 12-30-03; 8:45 am]

BILLING CODE 6712-01-P